DEPARTMENT OF DEFENSE

Department of the Army; Corps of Engineers

Notice of Intent To Prepare a Draft Environmental Impact Statement for the Puyallup River General Investigation Study, Pierce County, WA

AGENCY: Department of the Army, U.S. Army Corps of Engineers, DoD.

ACTION: Notice of Intent.

SUMMARY: The Seattle District, U.S. Army Corps of Engineers (USACE) will prepare a Draft Environmental Impact Statement (DEIS) pursuant to Section 102(2)(C) of the National Environmental Policy Act (NEPA) of 1969, as amended, for a proposed flood-risk management project in the Puyallup River Basin including the Puyallup River downstream of Electron Dam to Commencement Bay, the Carbon River and the White River downstream of Mud Mountain Dam. This study was requested by Pierce County (the local sponsor), Washington, because of the potential for significant flooding within the Puyallup River Basin.

A DEIS is being prepared because of the potential for impacts on environmental resources, particularly salmonid habitat, and the intense public interest already demonstrated in addressing the flooding problems of the Puyallup, Carbon and White Rivers.

The Puyallup River General Investigation (GI) DEIS for the Puyallup River Basin is being conducted under the authority of Section 209 of the Flood Control Act of 1962, Public Law 87-874. That section authorized a comprehensive study of Puget Sound, Washington, and adjacent waters including tributaries, in the interest of flood control, navigation, and other water uses and related land resources.

DATES: Persons or organizations wishing to submit study scoping comments should do so by October 24, 2011. Public comment may also be made at the study scoping meeting October 6, 2011 in Fife, Washington (see Scoping Meeting). Notification of scoping meeting times and locations will be sent to all agencies, organizations, and individuals on the project mailing list.

ADDRESSES: All comments on the proposed project, requests for inclusion on the mailing list and future documents should be sent to: Amanda Ogden, Study Environmental Coordinator, Seattle District, U.S. Army Corps of Engineers, P.O. 3755, Seattle, WA 98124-3755, Attn: CENWS-PM-ER; telephone (206) 764-3628; fax (206) 764-4467; or e-mail Amanda.Ogden@usace.army.mil.

FOR FURTHER INFORMATION CONTACT: General questions concerning the proposed action and the DEIS can be directed to: Amanda Ogden, Study Environmental Coordinator (see ADDRESSES) or C.J. Klocow, Project Manager, Seattle District, U.S. Army Corps of Engineers, P.O. 3755, Seattle, WA 98124-3755, Attn: CENWS-PM-CP; telephone (206) 764-6073; fax (206) 764-4467; or e-mail Charles.J.Klocow@usace.army.mil.

SUPPLEMENTARY INFORMATION: Background. The Puyallup River basin encompasses a drainage area of approximately 1,040 square miles. Major tributaries include the Carbon and White Rivers. The Puyallup, Carbon and White Rivers drain the northern flank of Mount Rainier. The study area for the DEIS will be the Puyallup River downstream of Electron Dam to Commencement Bay, the Carbon River and the White River downstream of Mud Mountain Dam.

The purpose of the Puyallup River GI study is to better identify the problems and opportunities that exist to relieve the potential for flooding, reduce flood risks and to develop a flood-risk management plan that fits Federal law and policy and is within the capability of the local sponsor to support their required share of the total project costs.

This is a single-purpose flood-risk management study. The goal of this project is to identify the National Economic Development (NED) plan, the flood-risk management alternative that provides the maximum net economic benefits. In accordance with USACE policy, minimization of ecosystem, cultural, and socio-economic impacts will be significant project considerations (Reference: ER 1105-2-100, Planning Guidance Notebook). The local sponsor may request the recommendation of a plan other than the NED, the Locally Preferred Plan (LPP).

Alternatives. In the reconnaissance phase for the Puyallup River GI study, USACE identified two alternative courses of action for further analysis which are outlined below.

Alternative 1—No Action: Allow the current levee system to remain in place without a major system-wide levee system upgrade. Individual jurisdictions would continue to operate, maintain, and repair the existing levees, and dams on the Puyallup River and White River would continue present operations for flood reduction.

Alternative 2: Construct a coordinated flood-risk management project that would provide critically needed flood-risk management measures at an affordable cost in a reasonable timeframe and that will subsequently be authorized and implemented.

Pierce County and USACE are in the process of developing an array of structural and nonstructural measures for addressing problems and opportunities and for achieving project objectives. These measures will be presented to the public at several workshops in Pierce County and to resource and Tribal groups and agencies over the course of project development.

Some or all of the measures will be combined to form the range of alternatives. In the DEIS, the preferred alternative will be selected based on screening and evaluation of the range of alternatives.

Scoping. Public involvement will be sought during scoping, plan formulation, and preparation of the DEIS in accordance with NEPA procedures. A public scoping process has been started: (1) To clarify which issues appear to be major public concerns, (2) to identify any information sources that might be available to analyze and evaluate impacts, and (3) to obtain public input and determine acceptability for the range of measures to be included within potential alternatives.

This NOI formally commences the scoping process under NEPA. As part of the scoping process, all affected Federal, state, and local agencies; Tribes; the public; and other interested private organizations, including environmental groups, are invited to comment on the scope of the DEIS. Comments are requested regarding issues of concern, project alternatives, potential mitigation measures, probable significant environmental impacts, and permits or other approvals that may be required by any project.

The following key areas have been identified so far to be analyzed in depth in the DEIS:

1. Flooding characteristics (existing and with any project).

2. Impacts to fish habitat and fisheries resources.

3. Impacts to riparian habitat.

4. Impacts to wetlands.

5. Impacts to cultural resources.

6. Impacts to surrounding communities.

7. Impacts to geomorphic processes.

Scoping Meeting. Opportunity to comment on the planned study will also be available at the study scoping meeting which is scheduled for October 6, 2011 at the Fife Community Center, 2111 54th Avenue East, Fife, WA, 98424. The scoping meeting will commence at 4 p.m. with an open house, followed by presentations and a formal hearing at 5:30 pm. Details of the meeting time and location will be announced in the local media. Notices will be sent to all agencies, organizations, and individuals on the mailing list.

Availability of DEIS. USACE expects to complete preparation of the DEIS and make it available for public review by the fall of 2013.

Dated: September 15, 2011.
Bruce A. Estok,
Colonel, Corps of Engineers, District Commander.

[FR Doc. 2011-24484 Filed 9-22-11; 8:45 am]

BILLING CODE 3720-58-P